DEPARTMENT OF STATE

[Public Notice 8240]

U.S. Department of State Advisory Committee on Private International Law (ACPIL): Notice of Public Meeting of the Study Group on Choice of Law in International Commercial Contracts

The Office of the Assistant Legal Adviser for Private International Law, Department of State, hereby gives notice of a public meeting of the Study Group on Choice of Law in International Commercial Contracts. A working group of experts from various countries was established by the Hague Conference on Private International Law to develop non-binding principles relevant to the choice of law in international commercial contracts. The draft principles prepared by that group were considered at a Special Commission of the Hague Conference held November 12-16, 2012. We expect that the Council on General Affairs and Policy of the Hague Conference will request that the working group of experts prepare a detailed commentary to accompany the principles.

The purpose of the public meeting is to obtain the views of concerned stakeholders in advance of the Council meeting in April. This is not a meeting of the full Advisory Committee. The Draft Hague Principles as approved by the November 2012 Special Commission meeting on choice of law in international contracts, and Recommendations for the commentary and other relevant documents can be found at the following link: http://www.hcch.net/index_en.php?act=text.display&tid=49.

Time and Place: The meeting of the ACPIL Study Group will take place on April 1, 2013 from 10:30 a.m. to 1:30 p.m. EDT in Room 240, South Building, State Department Annex 4. Participants should arrive at the Navy Hill gate at the corner of 23rd Street NW. and D Street NW before 10:00 a.m. for visitor screening. Persons arriving later will need to make arrangements for entry using the contact information provided below. If you are unable to attend the public meeting and would like to participate from a remote location, teleconferencing will be available.

Public Participation: This meeting is open to the public, subject to the capacity of the meeting room. Access to Navy Hill is strictly controlled. For pre-clearance purposes, those planning to attend in person are requested to email or phone Tricia Smeltzer (smeltzertk@state.gov, 202-776-8423) or Niesha Toms (tomsnn@state.gov, 202-776-8420) and provide your full name, address, date of birth, citizenship, driver's license or passport number, affiliation, and email address. This will greatly facilitate entry. Participants will be met at the Navy Hill gate at 23rd and D Streets NW., and will be escorted to the South Building.

A member of the public needing reasonable accommodation should advise Ms. Smeltzer or Ms. Toms not later than March 25, 2013. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: March 7, 2013.
Michael Dennis,
Office of Private International Law, Office of the Legal Adviser, Department of State.

[FR Doc. 2013-06185 Filed 3-15-13; 8:45 am]

BILLING CODE 4710-08-P